DEPARTMENT OF DEFENSE

Department of the Army

Armament Retooling and Manufacturing Support Executive Advisory Committee

AGENCY: Department of the Army, DoD.

ACTION: Notice of open meeting.

SUMMARY: pursuant to Pub. L. 92-463, notice is hereby given of the next meeting of the Armament Retooling and Manufacturing Support (ARMS) Executive Advisory Committee (EAC).

Date of Meeting: March 13-14, 2003.

Place of Meeting: Sheraton World Resort Hotel, 10100 International Drive, Orlando, FL 32821.

Time of meeting: 1 PM-5 PM on March 13 and 7:30 AM-12 PM on March 14.

Proposed Agenda: The purpose of the meeting is to update the EAC and public on the status of ongoing actions, new items of interest, and suggested future direction/actions. Topics of this meeting will include: Divestiture of ARMS Facilities; Minimization of Negative Impacts upon Tenants; and Allocations of ARMS Program Funding. This meeting is open to the public.

FOR FURTHER INFORMATION CONTACT: Mr. Mike Perez, U.S. Army Joint Munitions Command, and Attn: AMSJM-CCA-IA, Rock Island Arsenal, IL 61299, phone (309) 782-3360.

SUPPLEMENTARY INFORMATION: The EAC encourages the development of new and innovative methods to optimize the asset value of the Government-Owned, Contractor-Operated ammunition industrial base for peacetime and national emergency requirements, while promoting economical and efficient processes at minimal operating costs, retention of critical skills, community economic benefits, and a potential model for defense conversion. The U.S. Army, Joint Munitions Command, will host this meeting.

A block of rooms has been reserved at the Sheraton World Resort hotel for the nights of March 12-14, 2003. The Sheraton World Resort Hotel is located at 10100 International Drive, Orlando, Florida 32821, local phone (407) 352-1100. Please make your reservations by calling 800-327-0363. Be sure to mention the guest code acronym U.S. Army OSC ARMS Team. Reserve your room prior to February 12th to get the Government Rate of $129.00 a night. Also notify this office of your attendance by notifying Mike Perez, perezm@osc.army mil, and (309) 782-3360 (DSN 793-3360). To insure adequate arrangements (transportation, conference facilities, etc.) for all attendees, we request your attendance notification with this office by February 28, 2003. Corporate casual is meeting attire.

Luz D. Ortiz,
Army Federal Register Liaison Officer.

[FR Doc. 03-3249 Filed 2-7-03; 8:45 am]

BILLING CODE 3710-08-M